FEDERAL MARITITME COMMISSION

Sunshine Act Meetings; Correction

AGENCY: Federal Maritime Commission.

ACTION: Notice; correction.

SUMMARY: The Federal Maritime Commission published a document in the Federal Register of July 18, 2022, as modified in the Federal Register of July 27, 2022, concerning the Sunshine Act Meetings for our July 27, 2022, Commission Meeting. The July 27, 2022, document contained an incorrect agenda item #3.

FOR FURTHER INFORMATION CONTACT: William Cody, 202-523-5725.

SUPPLEMENTARY INFORMATION:

Correction

In the Federal Register of July 27, 2022, FR Doc. 2022-16188, on page 45105, the Federal Register of July 18, 2022, in FR Doc. 2022-15400, on page 42725, item #3 titled “3. Staff Update on Ocean Carrier Practices with Respect to Congestion or Related Surcharges” was removed, and item #4 titled “4. Staff Briefing on Enforcement Process and Pending Matters” was renumbered as item #3. Item #3, titled “3. Staff Briefing on Enforcement Process and Pending Matters” should be removed.

Dated: July 28, 2022.
William Cody,
Secretary.

[FR Doc. 2022-16545 Filed 7-29-22; 11:15 am]

BILLING CODE 6730-02-P